DEPARTMENT OF ENERGY

Federal Energy Regulatory Commission

[Docket No. RP09-427-000]

Southern Natural Gas Company; Notice of Technical Conference

April 7, 2009.

Take notice that the Commission Staff will convene a technical conference in the above-referenced proceeding on Thursday, April 30, 2009, at 9 a.m. (EST), in a room to be designated at the offices of the Federal Energy Regulatory Commission, 888 First Street, NE., Washington, DC 20426.

The issues to be addressed at the technical conference include those Southern identified as changes to its terms and conditions of service. These include Southern's proposal to: (1) Modify its general requirements applicable to the installation or modification of interconnection facilities; (2) require a shipper that has not used its point to move its primary receipt point; (3) modify its open season requirements; (4) allow a shipper and Southern to agree to a prepayment for services; and (5) modify its ROFR time frames.

FERC conferences are accessible under section 508 of the Rehabilitation Act of 1973. For accessibility accommodations, please send an e-mail to accessibility@ferc.gov or call toll free (866) 208-3372 (voice) or (202) 502-8659 (TTY), or send a fax to (202) 208-2106 with the required accommodations.

All interested persons are permitted to attend. For further information please contact Robert McLean at (202) 502-8156 or e-mail Robert_McLean@ferc.gov.

Kimberly D. Bose,
Secretary.

[FR Doc. E9-8453 Filed 4-13-09; 8:45 am]

BILLING CODE 6717-01-P